POSTAL RATE COMMISSION

Facility Tour

AGENCY: Postal Rate Commission.

ACTION: Notice of Commission tour.

SUMMARY: Postal Rate Commissioners and several staff members will tour United Parcel Service (UPS) facilities on December 11 and 12, 2003. On the evening of December 11, from approximately 8 p.m. to 10 p.m., the group will tour the UPS Mail Innovations facility in Paulsboro, NJ. On December 12, from approximately 11:30 a.m. to 1:15 p.m., the group will tour the UPS air hub at the Philadelphia airport. The purpose of the tours (including any related briefings) is to observe operations.

DATES: (1) December 11, 2003: UPS facilities (Paulsboro, NJ). (2) December 12, 2003; UPS facilities (Philadelphia Airport Hub).

FOR FURTHER INFORMATION CONTACT: Stephen L. Sharfman, General Counsel, (202) 789-6818.

Dated: December 4, 2003.
Garry J. Sikora,
Acting Secretary.

[FR Doc. 03-30434 Filed 12-8-03; 8:45 am]

BILLING CODE 7710-FW-M